NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 78 FR 56876, and three comments were received. NSF is forwarding the proposed renewal submission to the Office of Management and Budget (OMB) for clearance simultaneously with the publication of this second notice. The full submission (including comments) may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION:

Comments

As required by 5 CFR 1320.8(d), comments on the information collection activities as part of this study were solicited through publication of a 60 Day Notice in the Federal Register on September 14, 2012, at 77 FR 56876. We received three comments, to which we here respond.

Commenter 1

We agreed with one commenter's conclusion that (a) the information is necessary and will have practical use; and (b) our estimated burden on respondents appears appropriate. In (c), the commenter raised two points, and one more in (d) which we address here.

The first point of (c) is about our non-inclusion of the actual course instructor in our survey. We did not specifically include interviews with instructors for two reasons. The first is that NSF does not require grantees to provide RCR instruction through a live person—NSF concluded it was acceptable for grantees to direct participants to a Web site for online RCR education. Thus, there may not be an RCR instructor with whom we could speak. The second reason is that, based on our limited experience with grantees in which live RCR instruction is offered, the RCR administrator is also involved in that instruction, so the administrator will also have that perspective in those instances. Finally, we want to limit the burden this survey imposes on awardee institutions.

The second point in (c) is that our minimum number of participants of the RCR training (three—one undergraduate, one graduate, one post-doc) seems too low to provide a representative sample. We will ask grantees to make available as many students as practical, but since NSF requires grantees to provide RCR training only to students directly supported (paid) from NSF grants, we recognize that for many grantees, this may mean that few NSF participants exist. Of course, if a grantee provides RCR education to a broader range of students/post-docs/faculty than the minimal requirements of NSF, we expect to be able to draw from a larger pool of participants. Indeed, this is one of our questions for the RCR Administrator.

The comment in (d) about the most significant way to reduce the burden on respondents would be to give clear and timely guidance on what does and does not constitute `adequate' training goes to one of the points of doing this survey. NSF has not specified what constitutes `adequate' RCR training. We are assessing how grantees have implemented NSF's requirement, how many of them would welcome further specificity in NSF's requirement, and how many would not—and why or why not. As we note, one likely outcome of our effort would be recommendations back to NSF for improving its RCR program, and, depending on the response data, this could be one of those recommendations.

Commenter 2

Commenter 2 expressed concern that our RCR program data collection strategy “exceeds what is necessary to evaluate recipient's compliance with NSF's policy” and “creates an unnecessary and excessive burden on the respondents” and that the interviews “are not necessary nor useful.” We prepared our approach after interviewing experts in RCR training and then conducted a trial run of the oversight program at a university with multiple, decentralized RCR programs. Using a draft questionnaire, respondents provided answers and promptly offered both positive and negative feedback about their own RCR training experiences. Indeed, they expressed to us a desire to have additional discussions beyond the interviews, which we accommodated. Our interviews and questions were necessary and essential to determine compliance with NSF's RCR policy, to allow us to address the impact of NSF's requirement on the university, and to determine whether a recommendation to adjust the policy might be warranted. Thus, your phrase “unnecessary and excessive burden” is quite opposite of our actual experiences while interacting with upper-level administrators, RCR administrators, and RCR course participants.

Another point raised was that the RCR policy “does not require institutions to demonstrate a commitment particularly through separately allocated resources—financial and/or personnel—to the program”. However, there is a requirement to allocate personnel. As indicated in the NSF Proposal and Award Policies and Procedures Guide, “An institution must designate one or more persons to oversee compliance with the RCR training requirement”.¹ As indicated in our Federal Register Notice for this review, for evaluation purposes we are interested how the institution's financial and staff resources are both utilized to maintain the RCR training program.

¹ Part II-Award and Administration Guide, Chapter IV, Part B.2.c, nsf.gov/pubs/policydocs/pappguide/nsf11001/aag_4.jsp#IVB.

There was also an overall concern that the length of time estimated for interviews is not enough. As indicated above, our interview times are based from our previous experiences and are used as an estimate, not as an absolute fixed factor. We expect that interview duration would vary for some institutions based on the size of their RCR program and total number of participants. Individual institutions can have a wide variety in the number of trainees who are supported by NSF. Our estimated interview times are in line with the actual length of the interviews conducted in our trial run.

Commenter 2's statement that the “NSF OIG lacks the breadth of expertise needed to reasonably assess the effectiveness of individual institutional programs” misses the mark of our intent. Our goal is not to evaluate the effectiveness of individual institutional RCR programs, but rather to evaluate an institution's methods for implementing its RCR program in response to NSF's requirement. As Commenter 2 stated, “There is not a required course content or structure nor a requirement that faculty participate in the training activities”. Institutions can freely develop their RCR training plans, and, as stated in our Notice, we seek to collect such information for evaluation purposes. Our staff has several scientists who have the requisite experience to complete such an evaluation.

We agree with Commenter 2 that receipt of an institution's plan for RCR training would be a valuable endeavor, and we will obtain such institutional plans as part of our assessment.

Commenter 3

1. We agree with Commenter 3 that receipt of an institution's plan for RCR training would be a valuable endeavor, and we will obtain such institutional plans as part of our assessment. We prepared our approach after interviewing experts in RCR training and then conducting a trial run of the oversight program at a university with multiple, decentralized RCR programs. Using a draft questionnaire, respondents provided answers and promptly offered both positive and negative feedback about their own RCR training experiences. Our interviews and questions were necessary and essential to determine compliance with NSF's RCR policy, to allow us to address the impact of NSF's requirement on the university, and to determine whether a recommendation to adjust the policy might be warranted.

This commenter suggested we use an electronic survey rather than conducting interviews to gather information. During our trial run, we specifically asked the participants how their responses would differ if they received and answered the same questionnaire electronically vs. in an interview. While a couple of interviewees noted it would be more convenient logistically to complete an electronic questionnaire at their leisure, all interviewees preferred an interview format for a more fruitful discussion.

2. Commenter 3 suggested our list of interviewees is incomplete because we exclude faculty. We do not specifically exclude faculty as we found that faculty members are often the RCR program administrators and/or RCR course instructors. Furthermore, we plan to ask RCR program administrators for information on faculty involvement. We realize faculty mentoring could be an integrated part of a RCR program, as we recognize that institutions have varying RCR training programs that are suited to their specific research disciplines or type of institution.

Commenter 3 believed we underestimated the time burden on institutions due to systematic auditing and self-assessment. We are not conducting an audit, nor do we require a university to conduct an audit or self-assessment either prior, or subsequent, to our information gathering. Our interview times are based from our previous experiences and are used as an estimate, not as an absolute fixed factor. We expect that interview duration would vary for some institutions based on the size of their RCR program and total number of participants. Individual institutions can have a wide variety in the number of trainees who are supported by NSF. Our estimated interview times are in line with the actual length of the interviews conducted in our trial run.

After consideration of all comments, we are moving forward with our submission to OMB.

Title of Collection: Office of Inspector General Review of Awardee Implementation of NSF's Requirement for a Responsible Conduct of Research Program.

OMB Approval Number: 3145—NEW.

Type of Request: Intent to seek approval to establish an information collection.

Abstract: The National Science Foundation Office of Inspector General (NSF OIG) requests establishment of data collection to assess awardee institutions' plans to provide adequate training in the responsible conduct of research to undergraduate students, graduate students, and postdoctoral researchers who are supported by NSF.

Section 7009 of the America COMPETES Act (codified at 42 U.S.C. 862o-1) requires NSF to ensure that “each institution that applies for financial assistance from the Foundation for science and engineering research or education describe in its grant proposal a plan to provide appropriate training and oversight in the responsible and ethical conduct of research. . . .” NSF's implementation of this requirement is described in the NSF Proposal and Award Policies and Procedures Guide, Part II—Award and Administration Guide, Chapter IV, Part B and is available at nsf.gov/pubs/policydocs/pappguide/nsf11001/aag_4.jsp#IVB.

The Office of Inspector General provides independent oversight of NSF's programs and operations. NSF OIG is responsible for promoting efficiency and effectiveness in agency programs and for preventing and detecting fraud, waste, and abuse. NSF OIG supports NSF in its mission by safeguarding the integrity of NSF programs and operations through audits, investigations, and other reviews.

This information collection is necessary for review of institutional compliance with the responsible conduct of research requirements. NSF OIG will primarily use the data collected to inform the Foundation and Congress whether current responsible conduct of research programs comply with NSF's requirement and to make recommendations to strengthen these programs if necessary. The results of the information collection also will assist NSF OIG in developing a responsible conduct of research oversight plan.

The scope of this information request will primarily address how awardees have implemented NSF's requirement by interviewing three groups of people: (1) upper-level administrators (e.g., Vice Presidents or Vice Provosts), (2) program administrators (e.g., Research Integrity Officers or Compliance Officers), and (3) trainees who have participated in the program (undergraduate students, graduate students and postdoctoral researchers). From the upper-level administrators, we will request information that will allow us to assess the institution's commitment to the program, including resources (both financial and staff), and how the expectations for the program are communicated to faculty and students. We will request from the program administrators specific information such as course structure and content, participation requirements and options, compliance tracking, faculty participation, resource allocation, and oversight. From the course participants, we will request information about their experiences in the courses with regard to format, duration, content, and the benefits and drawbacks of taking an RCR course. The information collection will be conducted through video-conferencing between NSF OIG and the institutions' participants.

Use of the Information: This information is required for NSF OIG's effective oversight of NSF programs and operations by reviewing institutions' compliance with the responsible conduct of research requirements of the America COMPETES Act and NSF's Proposal and Award Policies and Procedures Guide.

This collection primarily will be used for accountability and evaluation purposes, and to inform Congress and NSF on the outcome of the information collection.

Respondents: Institutions that receive funding from NSF and are required to provide adequate training on the responsible conduct of research.

Number of Respondents: NSF OIG anticipates collecting information from a minimum of 20 institutions per year and a maximum of 100 institutions. Participants at each institution will include at least one senior level administrator, one representative from the responsible conduct of research program, and a group of students with at least one undergraduate student, one graduate student, and one postdoctoral researcher. The information collection will involve between 100 and 500 respondents per year.

Burden on the Public: NSF OIG estimates that the time required for information collection from each senior level administrator will be approximately 30 minutes, from each representative from the responsible conduct of research program approximately 1.5 hours, and from students and postdocs approximately 1 hour each.

At a minimum, each institution will require 4 hours to complete the information collection. The minimum total time burden for 20 institutions per year is 80 hours and 400 hours per year for 100 universities.

Dated: May 28, 2013.
Suzanne H. Plimpton,
Reports Clearance Officer, National Science Foundation.

[FR Doc. 2013-12929 Filed 5-30-13; 8:45 am]

BILLING CODE 7555-01-P